DEPARTMENT OF LABOR

Agency Information Collection Activities; Submission for OMB Review; Comment Request; Generic Clearance for Formative Data Collections for Research and Evaluation, New Collection

AGENCY: Office of the Assistant Secretary for Policy, Chief Evaluation Office, Department of Labor.

ACTION: Notice of information collection; request for comment.

SUMMARY: The Department of Labor (DOL), as part of its continuing effort to reduce paperwork and respondent burden, conducts a preclearance consultation program to provide the general public and federal agencies with an opportunity to comment on proposed and/or continuing collections of information in accordance with the Paperwork Reduction Act of 1995 (PRA95). This program helps to ensure that requested data can be provided in the desired format, reporting burden (time and financial resources) is minimized, collection instruments are clearly understood, and the impact of collection requirements on respondents is properly assessed. Currently, the Department of Labor is soliciting comments concerning the collection of data for formative data collections for research and evaluations. A copy of the proposed Information Collection Request (ICR) can be obtained by contacting the office listed below in the addressee section of this notice.

DATES: Written comments must be submitted to the office listed in the addressee section below on or before May 7, 2021.

ADDRESSES: You may submit comments by either one of the following methods:

Email: ChiefEvaluationOffice@dol.gov; Mail or Courier: Chayun Yi, Chief Evaluation Office, OASP, U.S. Department of Labor, Room S-2312, 200 Constitution Avenue NW, Washington, DC 20210. Instructions: Please submit one copy of your comments by only one method. All submissions received must include the agency name and OMB Control Number identified above for this information collection. Comments, including any personal information provided, become a matter of public record. They will also be summarized and/or included in the request for OMB approval of the information collection request.

FOR FURTHER INFORMATION CONTACT: Chayun Yi by email at ChiefEvaluationOffice@dol.gov or by phone at (202) 693-5084.

SUPPLEMENTARY INFORMATION:

I. Background: The Chief Evaluation Office (CEO) of the U.S. Department of Labor (DOL) intends to design and conduct evaluations of DOL-funded programs. Under this generic clearance, DOL would engage in a variety of formative data collections with researchers, practitioners, TA providers, service providers and potential participants throughout the field to fulfill the following goals: (1) Inform the development of CEO research, (2) maintain a research agenda that is rigorous and relevant, (3) ensure that research products are as current as possible and (4) inform the provision of technical assistance. CEO envisions using a variety of techniques including semi-structured discussions, focus groups, surveys, and telephone or in-person interviews, in order to reach these goals. Following standard OMB requirements, DOL will submit a change request for each individual data collection activity under this generic clearance. Each request will include the individual instrument(s), a justification specific to the individual information collection, and any supplementary documents. OMB should review requests within 10 days of submission.

Type of Review: New information collection request.

OMB Control Number: 1290-0NEW.

Affected Public: The populations to be studied include key stakeholder groups involved in DOL projects and programs, state or local government officials, service providers, participants in DOL programs or similar comparison groups, experts in fields pertaining to DOL research and programs, or others involved in conducting DOL research or evaluation projects.

Comments submitted in response to this request will be summarized and/or included in the request for Office of Management and Budget approval of the information collection request; they will also become a matter of public record.

Estimated Annual Burden Hours
Type of instrument (form/activity) | Number of respondents | Number of responses per respondent | Total number of responses | Average burden time per response (hours) | Estimated burden hours
Semi-structured discussions and focus groups | 3,000 | 1 | 3,000 | 1 | 3,000
Interviews | 1,500 | 1 | 1,500 | 1 | 1,500
Questionnaires/surveys | 1,000 | 1 | 1,000 | 1 | 1,000
Total | 5,500 |  | 5,500 |  | 5,500

Christina Yancey,
Chief Evaluation Officer, U.S. Department of Labor.

[FR Doc. 2021-04685 Filed 3-5-21; 8:45 am]

BILLING CODE 4510-HX-P